DEPARTMENT OF TRANSPORTATION

National Highway Traffic Safety Administration

[Docket No. NHTSA-2013-0021, Notice 3]

Correction to Decision That Nonconforming Model Year 2000 East Lancashire Coachbuilders Limited Double Decker Tri-Axle Buses (With Volvo B7L Chassis) Are Eligible for Importation

AGENCY: National Highway Traffic Safety Administration (NHTSA), Department of Transportation (DOT).

ACTION: Correction to previous import eligibility decision.

SUMMARY: NHTSA is correcting an error made in its decision that certain model year (MY) 2000 East Lancashire Coachbuilders Limited Double Decker Tri-Axle buses (with Volvo B7L Chassis) that were not originally manufactured to comply with all applicable Federal Motor Vehicle Safety Standards (FMVSS) are eligible for importation into the United States because they have safety features that comply with, or are capable of being altered to comply with, all applicable FMVSS. The correction is being made to properly identify the subject vehicles as MY 2001 models.

DATES: The original eligibility decision became effective on July 30, 2015. The correction is effective as of April 8, 2018, and applies to any vehicle that may have been previously imported under the original eligibility decision.

ADDRESSES: For further information contact George Stevens, Office of Vehicle Safety Compliance, NHTSA (202-366-5308).

SUPPLEMENTARY INFORMATION:

Background

Under 49 U.S.C. 30141(a)(1)(B), a motor vehicle that was not originally manufactured to conform to all applicable FMVSS shall be refused admission into the United States unless NHTSA has decided its safety features comply with, or are capable of being altered to comply with, all applicable FMVSS based on destructive test data or such other evidence that NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US Specs, of Havre de Grace, Maryland (“US Specs”) (Registered Importer No. RI-03-321), petitioned NHTSA to decide whether MY 2000 East Lancashire Coachbuilders Limited Double Decker Tri-Axle buses (with Volvo B7L Chassis) are eligible for importation into the United States. NHTSA published a notice of the petition on January 26, 2015 (80 FR 4033) to afford an opportunity for public comment. No comments were received. The reader is referred to that notice for a thorough description of the petition.

A decision granting the referenced petition was published on August 25, 2015 (80 FR 46645). Under the decision, certain MY 2000 East Lancashire Coachbuilders Limited Double Decker Tri-Axle buses (with Volvo B7L Chassis) were determined eligible for importation into the United States.

Import eligibility decisions are made on a make, model, and model year basis, typically in response to petitions submitted by a RI. As specified in 49 CFR 593.6(b)(1), the petitioning RI must, among other things, identify the model year and model of the vehicle for which import eligibility is sought.

In its petition, US Specs identified the subject vehicle as a MY 2000 East Lancashire Coachbuilders Limited Double Decker Tri-Axle buses, built on a Volvo B7L Chassis. At time of submission, there was no reason for NHTSA to question this identification of the vehicle.

It has since come to the agency's attention that manufacturing operations on the subject vehicle were completed in calendar year 2001, the same year in which the bus entered service. Absent a model year designation from the manufacturer or the vehicle's country of origin, the year in which manufacturing operations are completed on the vehicle serves as the vehicle's model year, as that term is defined in 49 CFR 593.4.

Correction

Accordingly, on the basis of the foregoing, NHTSA hereby corrects the decision granting import eligibility to MY 2000 East Lancashire Coachbuilders Limited Double Decker Tri-Axle buses (mounted on a Volvo B7L Chassis) to identify the subject vehicles as the MY 2001 version.

Conditions for importation of vehicles eligible under this corrected decision remain as outlined in the original decision. The importer of a vehicle admissible under any final decision must indicate on the form HS-7 accompanying entry the appropriate vehicle eligibility number indicating that the vehicle is eligible for entry. VCP-59, the vehicle eligibility number assigned to vehicles admissible under the original decision, remains as the eligibility number for vehicles admissible under the decision as corrected in this notice.

Authority: 49 U.S.C. 30118, 30120: delegations of authority at 49 CFR 1.95 and 501.8.

Claudia W. Covell,
Acting Director, Office of Vehicle Safety Compliance.

[FR Doc. 2018-08060 Filed 4-17-18; 8:45 am]

BILLING CODE 4910-59-P